FEDERAL COMMUNICATIONS COMMISSION

47 CFR Parts 5, 25 and 97

[IB Docket 02-54; FCC 02-80]

Mitigation of Orbital Debris

AGENCY: Federal Communications Commission.

ACTION: Proposed rule.

SUMMARY: This document seeks to adopt rules for satellite services concerning orbital debris mitigation. Orbital debris consists of artificial objects orbiting the Earth that are not functional spacecraft. Since human activity in space began, there has been a steady growth in the number and total mass of orbital debris. Growth in the orbital debris population may limit the usefulness of space for communications and other uses in the future by raising the costs and lowering the reliability of space based systems. Accordingly, we seek comment on a range of options for addressing orbital debris issues as a part of spacecraft design and operation in order to preserve access to space for the long term.

DATES: Comments may be filed on or before July 17, 2002; Reply Comments may be filed on or before August 16, 2002. Written comments by the public on the proposed information collections are due on or before July 17, 2002. Written comments must be submitted by the Office of Management and Budget (OMB) on the proposed information collection(s) on or before July 2, 2002.

ADDRESSES: Comments may be filed using the Commission's Electronic Comment Filing System (ECFS) or by paper copies. See SUPPLEMENTARY INFORMATION for filing instructions, formats and other information regarding electronic filing; send paper copies to Federal Communications Commission, 445 12th Street, SW., Washington, DC 20554. In addition to filing comments with the Secretary, a copy of any comments on the information collections contained herein should be submitted to Judy Boley Herman at 445 12th Street, SW., Rm. 1-C804, Washington, DC 20554, or via internet at jboley@fcc.gov, and to Jeanette Thornton, OMB Desk Officer, Room 10326 NEOB, 725 17th Street, NW., Washington, DC 20503, or via the Internet to jthornto@omb.eop.gov.

FOR FURTHER INFORMATION CONTACT: Stephen J. Duall, Attorney Advisor, Satellite Division, International Bureau, telephone (202) 418-1103. For additional information concerning the information collection(s) contained in this document, contact Judith Boley Herman at (202) 418-0214, or via the Internet at jboley@fcc.gov.

SUPPLEMENTARY INFORMATION: This is a summary of the Commission's Notice of Proposed Rulemaking (NPRM) in IB Docket No. 02-54, FCC 02-80, adopted March 14, 2002 and released March 18, 2002. The complete text of this NPRM is available for inspection and copying during normal business hours in the FCC Reference Information Center, Portals II, 445 12th Street, SW, Room CY-A257, Washington, DC. This document may also be purchased from the Commission's duplicating contractor, Qualex International, Portals II, 445 12th Street, SW. Room CY-B402, Washington, DC 20554, telephone (202) 863-2893, facsimile (202) 863-2898 or via email qualexint@aol.com. It is also available on the Commission's website at http://www.fcc.gov. This NPRM contains proposed information collections subject to the Paperwork Reduction Act of 1995 (PRA). It has been submitted to the Office of Management and Budget (OMB) for review under the PRA. OMB, the general public, and other Federal agencies are invited to comment on the proposed information collections contained in this proceeding.

Summary of the Notice of Proposed Rulemaking

The NPRM begins by providing a short discussion of the technical and scientific aspects of orbital debris. It next provides a brief outline of the development of U.S. policies and regulations concerning orbital debris, as well as the international context in which those policies have developed. The NPRM then seeks comment on various substantive proposals concerning orbital debris mitigation by Commission licensees. Chiefly, the NPRM proposes to require satellite system operators to disclose, as part of the licensing process, orbital debris mitigation plans for all types of satellite systems licensed by the Commission. It also seeks comment on numerous issues and proposals relating to orbital debris mitigation.

First, the NPRM seeks comment on issues relating to the Commission's statutory authority to address orbital debris mitigation issues. Although the Commission has addressed orbital debris issues on a case-by-case basis in past proceedings (e.g., 2 GHz MSS licenses), the Commission has not formally addressed the scope and nature of its authority concerning orbital debris. The NPRM seeks comment on the Commission's authority to address orbital debris mitigation under the Communications Act and also seeks comment on the scope and nature of the Commission's authority with respect to non-U.S. licensed space stations that seek to operate using U.S.-licensed earth stations. In addition, although the NPRM does not propose to require license applicants to submit debris mitigation plans for the launch vehicle that will be used to launch a satellite, it seeks comment on whether there are any matters involving the launch vehicles that the Commission has the authority to consider, in particular concerning launch vehicles not licensed by the Federal Aviation Administration (FAA). Because the Department of Commerce National Oceanic and Atmospheric Administration (NOAA) has explicit statutory authority over post-mission disposal of remote sensing systems, the NPRM does not propose to address matters involving post-mission disposal of NOAA-licensed satellites.

Second, the NPRM discusses four broad objectives identified by the U.S. Government concerning orbital debris. The four objectives are: control of debris during normal operations and selection of a safe operational configuration; minimization of debris generated by accidental explosions; safe flight profiles; and post-mission disposal. The NPRM describes a number of standard practices designed to achieve these objectives and asks a number of specific questions concerning those practices. In addition, the NPRM seeks comment on the relationship between economic incentives and the likelihood that Commission-licensed satellite systems will adopt and carry out debris mitigation measures voluntarily.

Third, the NPRM discusses liability and insurance issues potentially arising from damaged caused by orbital debris. International treaties impose liability on the United States for damaged caused by its space objects. For damaged caused on the surface of the Earth, there is strict liability. For damage in space, liability is based on fault. Thus, the activities of private space station operators could result in liability for the United States government. For U.S. launches, licensees must obtain insurance for potential losses caused by launch mishaps, but such insurance requirements do not address post-launch issues arising from damages caused by a payload. The NPRM seeks comment on the role that liability considerations and insurance should play in the Commission's decisions concerning debris mitigation measures, and whether different types of risk may differ with respect to whether they can be appropriately addressed through insurance.

Finally, the NPRM seeks comment concerning non-U.S. licensed space stations that provide service to earth stations located in the United States. Under existing rules, non-U.S. licensed applicant seeking to serve earth stations in the United States must submit information to the Commission concerning the space station(s) involved prior to providing service to the United States. The NPRM proposes to require such applicant to submit information regarding orbital debris mitigation plans for such space station(s) and seeks comment on this proposal. The NPRM also proposes to amend parts 5 and 97 of the Commission's rules, concerning experimental satellite and amateur satellite authorizations, so that licensees under those parts are subject to the same disclosure requirements as licensees under part 25 and 100 of the Commission's rules. The NPRM seeks comment on this proposal.

Initial Regulatory Flexibility Certification

As required by the Regulatory Flexibility Act of 1980, as amended (RFA), the Commission has prepared an Initial Regulatory Flexibility Analysis (IRFA) of the possible significant economic impact on small entities by the policies and rules proposed in this Notice of Proposed Rulemaking. Written public comments are requested on this IRFA. These comments must be filed in accordance with the same filing deadlines for comments on the Notice of Proposed Rulemaking, and they must have a separate and distinct heading designating them as responses to the Initial Regulatory Flexibility Analysis. The Commission's Consumer Information Bureau, Reference Information Center, will send a copy of the Notice of Proposed Rulemaking, including this IRFA, to the Chief Counsel for Advocacy of the Small Business Administration, in accordance with the Regulatory Flexibility Act. See 5 U.S.C. 603(a).

A. Need for, and Objectives of, the Proposed Rules

Orbital debris consists of artificial objects orbiting the Earth that are not functional spacecraft. Since human activity in space began, there has been a steady growth in the number and total mass of orbital debris. The risks presented by orbital debris consist primarily of the risk of collisions between orbital debris and functional spacecraft, and the risk of damage to persons and property on the surface of the Earth in cases where an object survives reentry into the Earth's atmosphere. While these risks are small and are likely to remain so for the near term, continued and unmitigated growth in the orbital debris population may limit the usefulness of space for communications and other uses in the future, by raising the costs and lowering the reliability of space-based systems.

U.S. policy on orbital debris is the product of considerable work over the years to assess the risks posed by orbital debris, and to develop methods for mitigating those risks. Since 1988, mitigation of orbital debris has been a formal goal of national space policy. In 1995, an Interagency Report drafted under the direction of the White House Office of Science and Technology Policy recommended that the National Aeronautics and Space Administration (NASA) and the Department of Defense jointly develop draft design guidelines that could serve as a baseline for agency requirements for future spacecraft. The Interagency Report recommended that the guidelines could be used by both government and industry in the design and development of future satellite systems. In January 1998, draft U.S. Government Standard Practices were issued for consideration by agencies and industry. The practices listed were control of orbital debris released during normal operations, minimization of debris generated by accidental explosions, selection of a safe flight profile and operational configuration, and post-mission disposal of space structures. Those practices have now been adopted, with some modifications, and are applied in U.S. government missions. Some of those practices are also applied by the Federal Aviation Administration for licensing of launch vehicles, and the National Oceanic and Atmospheric Administration for licensing of remote sensing satellites. In addition, other space-faring nations are either considering or have adopted standards or practices concerning debris mitigation.

The Notice of Proposed Rule Making proposes to adopt a requirement that satellite systems seeking an FCC license, including experimental and amateur satellite systems, must provide a statement concerning the measures the system will take to mitigate orbital debris. In addition, the NPRM seeks comment on whether portions of the U.S. Government Standard Practices should be incorporated into the FCC's rules. Alternatively, the NPRM seeks comment on whether the Commission should evaluate such showings on a case-by-case basis, and poses a number of questions concerning how to address such showings. The NPRM also proposes several rule changes concerning disposal of geostationary spacecraft.

B. Legal Basis

The proposed action is supported by Sections 4(i), 7(a), 303(c), 303(f), 303(g), and 303(r) of the Communications Act of 1934, as amended, 47 U.S.C. 154(i), 157(a), 303(c), 303(f), 303(g), 303(r).

C. Description and Estimate of the Number of Small Entities to Which the Proposed Rules May Apply

The RFA directs agencies to provide a description of, and, where feasible, an estimate of, the number of small entities that may be affected by the proposed rules, if adopted. See 5 U.S.C. 603(b)(3). The RFA generally defines the term “small entity “ as having the same meaning as the terms “small business,” “small organization,” and “small governmental jurisdiction.” Id. Section 601(6). In addition, the term “small business” has the same meaning as the term “small business concern” under the Small Business Act. 5 U.S.C. 601(3) (incorporating by reference the definition of “small business concern” in 15 U.S.C. 632). Pursuant to the RFA, the statutory definition of a small business applies “unless an agency, after consultation with the Office of Advocacy of the Small Business Administration and after opportunity for public comment, establishes one or more definitions of such term which are appropriate to the activities of the agency and publishes such definition(s) in the Federal Register.” 5 U.S.C. 601(3). A small business concern is one which: (1) Is independently owned and operated; (2) is not dominant in its field of operation; and (3) satisfies any additional criteria established by the Small Business Administration (SBA). See Small Business Act, 15 U.S.C. 632 (1996). A small organization is generally “any not-for-profit enterprise which is independently owned and operated and is not dominant in its field.” 5 U.S.C. 601(4). Nationwide, as of 1992, there were approximately 275,801 small organizations. See 1992 Economic Census, U.S. Bureau of the Census, Table 6 (special tabulation of data under contract to Office of Advocacy of the U.S. Small Business Administration). “Small governmental jurisdiction” generally means “governments of cities, counties, towns, townships, villages, school districts, or special districts, with a population of less than 50,000.” 5 U.S.C. 601(5). As of 1992, there were approximately 85,006 such jurisdictions in the United States. See U.S. Dept. of Commerce, Bureau of the Census, “1992 Census of Governments.” This number includes 38,978 counties, cities, and towns; of these, 37,566, or 96 percent, have populations of fewer than 50,000. Id. The Census Bureau estimates that this ratio is approximately accurate for all governmental entities. Thus, of the 85,006 governmental entities, we estimate that 81,600 (91 percent) are small entities. Below, we further describe and estimate the number of small entity licensees that may be affected by the proposed rules, if adopted.

The rules proposed in this Notice of Proposed Rulemaking would affect satellite operators, if adopted. The Commission has not developed a definition of small entities applicable to satellite operators. Therefore, the applicable definition of small entity is generally the definition under the SBA rules applicable to Satellite Telecommunications. See Small Business Administration, 1997 NAICS Definitions, NAICS 513340 (“This industry comprises establishments primarily engaged in providing point-to-point telecommunications services to other establishments in the telecommunications and broadcasting industries by forwarding and receiving communications signals via a system of satellites or reselling satellite telecommunications.”). This definition provides that a small entity is expressed as one with $11.0 million or less in annual receipts. See 13 CFR 120.121, NAICS code 513340. 1997 Census Bureau data indicate that, for 1997, 273 satellite communication firms had annual receipts of under $10 million. In addition, 24 firms had receipts for that year of $10 million to $24,999,990. See U.S. Census Bureau, 1997 Economic Census, Subject Service: Information, “Establishment and Firm Size,” Table 4, NAICS 513340 (Issued Oct. 2000).

In addition, Commission records reveal that there are approximately 240 space station operators licensed by this Commission. We do not request or collect annual revenue information, and thus are unable to estimate of the number of licensees that would constitute a small business under the SBA definition. Small businesses may not have the financial ability to become space station licensees because of the high implementation costs associated with satellite systems and services.

D. Description of Projected Reporting, Recordkeeping, and Other Compliance Requirements

The proposed rule would require disclosure in an application for an FCC authorization of a satellite system's orbital debris mitigation plans. The Notice of Proposed Rule Making seeks comment on the degree of specificity that should be required in such reports, and on possible methodologies for developing such reports.

E. Steps Taken To Minimize Significant Economic Impact on Small Entities, and Significant Alternatives Under Consideration

The RFA requires an agency to describe any significant alternatives that it has considered in reaching its proposed approach, which may include the following four alternatives (among others): (1) The establishment of differing compliance or reporting requirements or timetables that take into account the resources available to small entities; (2) the clarification, consolidation, or simplification of compliance or reporting requirements under the rule for small entities; (3) the use of performance, rather than design, standards; and (4) an exemption from coverage of the rule, or any part thereof, for small entities. 5 U.S.C. 603(c).

The NPRM identifies several alternatives designed to minimize any significant economic impact on all entities, including small entities.

First, although the NPRM seeks comment on requiring debris mitigation practices by rule, it proposes as an alternative that the FCC proceed on a case-by-case basis in analyzing debris mitigation plans. Under a case-by-case method, the Commission could consider exemptions or other methods for minimizing any impact on small entities.

Second, the NPRM also seeks comment on whether to require that an applicant for an earth station license, to be used for communications with a non-U.S. licensed satellite, should submit information concerning debris mitigation plans for the satellite system. As an alternative, the NPRM seeks comment on whether a showing concerning direct and effective regulation by a foreign administration should be considered.

Third, the NPRM seeks comment on post-mission disposal of spacecraft from low Earth orbit, and on alternatives to using orbits that may experience a substantial economic impact under the U.S. Government Recommended Practices. Those alternatives could include use of different portions of low Earth orbit.

F. Federal Rules That May Duplicate, Overlap, or Conflict With the Proposed Rules

Remote sensing satellite systems are licensed by both the FCC and the National Oceanic and Atmospheric Administration (NOAA) of the Department of Commerce. The NPRM proposes to waive disclosure requirements concerning post-mission disposal of spacecraft for remote sensing satellites licensed by NOAA.

Procedural Information

Ex Parte Presentation. This is a permit-but-disclose notice and comment rulemaking proceeding. Ex parte presentations are permitted, except during the Sunshine Agenda period, provided they are disclosed as provided in Commission rules. See generally 47 CFR 1.1202, 1.1203, and 1.1206.

Authority: This Notice of Proposed Rulemaking is adopted pursuant to Sections 1, 4(i), 301, 303, 308, 309, and 310 of the Communications Act of 1934, as amended, 47 U.S.C. sections 151, 154(i), 301, 303, 308, 309, and 310.

Comment. Pursuant to applicable procedures set forth in §§ 1.415 and 1.419 of the Commission's rules, interested parties may file comments on or before July 17, 2002 and reply comments on or before August 16, 2002. Comments and reply comments should be filed in IB Docket No. 02-54. All relevant and timely comments will be considered by the Commission before final action is taken in this proceeding. To file formally in this proceeding, interested parties must file an original and four copies of all comments, reply comments, and supporting comments. If interested parties want each Commissioner to receive a personal copy of their comments, they must file an original plus nine copies. Interested parties should send comments and reply comments to the Office of the Secretary, Federal Communications Commission, Room TW-A325, 445 Twelfth Street, SW., Washington, DC 20554, with a copy to Stephen J. Duall, 445 Twelfth Street, SW., Washington, DC 20554.

Comments filed through the ECFS can be sent as an electronic file via the Internet to http://www.fcc.gov/e-file/ecfs.html. Generally, only one copy of an electronic submission must be filed. If multiple docket or rulemaking numbers appear in the caption of this proceeding, however, commenters must transmit one electronic copy of the comments to each docket or rulemaking number referenced in the caption. In completing the transmittal screen, commenters should include their full name, U.S. Postal Service mailing address, and the applicable docket or rulemaking number. Parties may also submit an electronic comment by Internet e-mail. To get filing instructions for e-mail comments, commenters should send an e-mail to ecfs@fcc.gov, and should include the following words in the body of the message, “get form <your e-mail address>.” A sample form and directions will be sent in reply. Parties who choose to file by paper must file an original and four copies of each filing. If more than one docket or rulemaking number appear in the caption of this proceeding, commenters must submit two additional copies for each additional docket or rulemaking number. Filings can be sent by hand or messenger delivery, by commercial overnight courier, or by first-class or overnight U.S. Postal Service mail (although we continue to experience delays in receiving U.S. Postal Service mail). The Commission's contractor, Vistronix, Inc., will receive hand-delivered or messenger-delivered paper filings for the Commission's Secretary at 236 Massachusetts Avenue, NE., Suite 110, Washington, DC 20002. The filing hours at this location are 8:00 a.m. to 7:00 p.m. All hand deliveries must be held together with rubber bands or fasteners. Any envelopes must be disposed of before entering the building. Commercial overnight mail (other than U.S. Postal Service Express Mail and Priority Mail) must be sent to 9300 East Hampton Drive, Capitol Heights, MD 20743. U.S. Postal Service first-class mail, Express Mail, and Priority Mail should be addressed to 445 12th Street, SW, Washington, DC 20554. All filings must be addressed to the Commission's Secretary, Office of the Secretary, Federal Communications Commission.

Ordering Clauses

Pursuant to sections 1, 4(i), 301, 303, 308, 309, and 310 of the Communications Act of 1934, as amended, 47 U.S.C. 151, 154(i), 301, 303, 308, 309, and 310, this Notice of Proposed Rulemaking is hereby adopted. The Commission's Consumer Information Bureau, Reference Information Center, shall send a copy of the Notice of Proposed Rulemaking, including the Initial Regulatory Flexibility Analysis, to the Chief Counsel for Advocacy of the Small Business Administration.

Paperwork Reduction Act

This NPRM contains proposed information collections. The Commission, as part of its continuing effort to reduce paperwork burdens, invites the general public and the Office of Management and Budget (OMB) to comment on the information collection(s) contained in this NPRM, as required by the Paperwork Reduction Act of 1995, Public Law 104-13. Public and agency comments are due at the same time as other comments on this NPRM; OMB notification of action is due 60 days from date of publication of this NPRM in the Federal Register. Comments should address: (a) Whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology.

OMB Control Number: 3060-XXXX (New Collection).

Title: Mitigation of Orbital Debris.

Form No.: Not applicable.

Type of Review: New collection.

Respondents: Business or other for-profit entities.

Number of Respondents: 50.

Estimated Time Per Response: 2-3 hours.

Frequency of Response: On occasion.

Total Annual Burden: 135.

Total Annual Costs: $35,000.

Needs and Uses: On March 18, 2002 the Commission released a Notice of Proposed Rulemaking (NPRM) in the Matter of Mitigation of Orbital Debris; IB Docket No. 02-54, FCC No. 02-80. The NPRM proposes to adopt rules for satellite services concerning orbital debris mitigation. The Commission commences this rule-making proceeding to consider the manner in which consideration of debris mitigation issues should be incorporated into our rules and licensing processes.

List of Subjects

47 CFR Part 5

Reporting and recordkeeping requirements.

47 CFR Part 25

Reporting and recordkeeping requirements, Satellites.

47 CFR Part 97

Reporting and recordkeeping requirements, Satellites.

Federal Communications Commission.
Marlene H. Dortch,
Secretary.

Proposed Rule Changes

For the reasons discussed in the preamble, the Federal Communications Commission proposes to amend 47 CFR parts 5, 25, and 97 as follows:

PART 5—EXPERIMENTAL RADIO SERVICE (OTHER THAN BROADCAST)

1. The authority citation for part 5 continues to read as follows:

Authority: Secs. 4, 302, 303, 48 Stat. 1066, 1082, as amended; 47 U.S.C. 154, 302, 303. Interpret or apply sec. 301, 48 Stat. 1081, as amended; 47 U.S.C. 301.

2. Section 5.63 is amended by adding paragraph (e) to read as follows:

§ 5.63 Supplementary statements required.

* * * * *

(e) Except where the satellite system has already been authorized by the FCC, applicants for an experimental authorization involving a satellite system must submit a description of the design and operational strategies the satellite system will use to mitigate orbital debris, including a casualty risk assessment if planned post-mission disposal involves atmospheric re-entry of the spacecraft. The applicant must also submit a demonstration that debris generation will not result from the conversion of energy sources on board the spacecraft into energy that fragments the spacecraft. Energy sources include chemical, pressure, and kinetic energy. This demonstration should address whether stored energy will be removed at the spacecraft's end-of-life, by depleting residual fuel and leaving all fuel line valves open, venting any pressurized system, leaving all batteries in a permanent discharge state, and removing any remaining source of stored energy. Other equivalent procedures may be approved in the course of the licensing process.

PART 25—SATELLITE COMMUNICATIONS

3. The authority citation for part 25 continues to read as follows:

Authority: 47 U.S.C. 701-744. Interprets or applies Sections 4, 301, 302, 303, 307, 309 and 332 of the Communications Act, as amended, 47 U.S.C. Sections 154, 301, 302, 303, 307, 309 and 332, unless otherwise noted.

4. Section 25.114 is amended by redesignating paragraphs (c)(16) through (c)(21) as paragraphs (c)(18) through (c)(23) and adding new paragraphs (c)(16) and (17) to read as follows:

§ 25.114 Applications for space station authorizations.

* * * * *

(c)* * *

(16) A description of the design and operational strategies that will be used to mitigate orbital debris, including a casualty risk assessment if planned post-mission disposal involves atmospheric re-entry of the spacecraft.

(17) A demonstration that debris generation will not result from the conversion of energy sources on board the spacecraft into energy that fragments the spacecraft. Energy sources include chemical, pressure, and kinetic energy. This demonstration should address whether stored energy will be removed at the spacecraft's end-of-life, by depleting residual fuel and leaving all fuel line valves open, venting any pressurized system, leaving all batteries in a permanent discharge state, and removing any remaining source of stored energy, or through other equivalent procedures specifically disclosed in the application.

* * * * *

5. Section 25.143 is amended by revising the section heading and paragraph (b)(1) to read as follows:

§ 25.143 Licensing provisions for the 1.6/2.4 GHz mobile-satellite service and 2 GHz mobile-satellite service.

* * * * *

(b) * * *

(1) General requirements: Each application for a space station system authorization in the 1.6/2.4 GHz Mobile-Satellite Service or 2 GHz Mobile-Satellite Service shall describe in detail the proposed satellite system, setting forth all pertinent technical and operational aspects of the system, and the technical, legal, and financial qualifications of the applicant. In particular, each application shall include the information specified in § 25.114. Non-U.S. licensed systems shall comply with the provisions of § 25.137.

* * * * *

6. Section 25.210 is amended by revising paragraph (j) to read as follows:

§ 25.210 Technical requirements for space stations in the Fixed-Satellite Service.

* * * * *

(j) Space stations operated in the geostationary satellite orbit must be maintained within 0.05° of their assigned orbital longitude in the east/west direction, unless specifically authorized by the Commission to operate with a different longitudinal tolerance, and except as provided in § 25.282 (End-of-life disposal).

* * * * *

7. Section 25.280 is revised to read as follows:

§ 25.280 Inclined orbit operations.

(a) Satellite operators may commence operation in inclined orbit mode without obtaining prior Commission authorization provided that the Commission is notified by letter within 30 days after the last north-south station keeping maneuver. The notification shall include:

(1) The operator's name;

(2) The date of commencement of inclined orbit operation;

(3) The initial inclination;

(4) The rate of change in inclination per year; and

(5) The expected end-of-life of the satellite accounting for inclined orbit operation, and the maneuvers specified under § 25.282.

(b) Licensees operating in inclined-orbit are required to:

(1) Periodically correct the satellite attitude to achieve a stationary spacecraft antenna pattern on the surface of the Earth and centered on the satellite's designated service area;

(2) Control all electrical interference to adjacent satellites, as a result of operating in an inclined orbit, to levels not to exceed that which would be caused by the satellite operating without an inclined orbit;

(3) Not claim protection in excess of the protection that would be received by the satellite network operating without an inclined orbit; and

(4) Continue to maintain the space station at the authorized longitude orbital location in the geostationary satellite arc with the appropriate east-west station-keeping tolerance.

8. Section 25.282 is added to read as follows:

§ 25.282 End-of-Life disposal.

(a) A space station authorized to operate in the geostationary satellite orbit under this Part may operate using its authorized tracking, telemetry and control frequencies, and outside of its assigned orbital location, for the purpose of removing the satellite from the geostationary satellite orbit at the end of its useful life, provided that the following conditions are met:

(1) The satellite is capable of being removed to, and the operations at variance from the assigned orbital location are designed to maneuver the satellite to, an orbit with a perigee with an altitude of no less than:

36,021 km + (1000·CR·A/m)

where CR is the solar pressure radiation coefficient of the spacecraft, and A/m is the Area to mass ratio, in square meters per kilogram, of the spacecraft.

(2) All stored energy sources on board the satellite are discharged, by venting excess propellant, discharging batteries, relieving pressure vessels, and other appropriate measures.

(3) Tracking, telemetry and control transmissions are planned so as to avoid electrical interference to other satellites, and coordinated with any potentially affected satellite networks.

(b) [Reserved]

PART 97—AMATEUR RADIO SERVICE

9. The authority citation for part 97 continues to read as follows:

Authority: 48 Stat. 1066, 1082, as amended; 47 U.S.C. 154, 303. Interpret or apply 48 Stat. 1064-1068, 1081-1105, as amended; 47 U.S.C. 151-155, 301-609, unless otherwise noted.

10. Section 97.207 is amended by revising paragraph (g) to read as follows:

§ 97.207 Space station.

* * * * *

(g) The license grantee of each space station must make two written pre-space station notifications to the International Bureau, FCC, Washington DC 20554. Each notification must be in accord with the provisions of Articles S9 and S11 of the ITU Radio Regulations.

(1) The first notification is required no less than 27 months prior to initiating space station transmissions and must specify the information required by Appendix S4 and Resolution No. 642 of the International Telecommunication Union Radio Regulations. The first notification shall also include a description of the design and operational strategies the space station will use to mitigate orbital debris, including a casualty risk assessment if planned post-mission disposal involves atmospheric re-entry of the spacecraft. The notification must also include a demonstration that debris generation will not result from the conversion of energy sources on board the spacecraft into energy that fragments the spacecraft. Energy sources include chemical, pressure, and kinetic energy. This demonstration should address whether stored energy will be removed at the spacecraft's end-of-life, by depleting residual fuel and leaving all fuel line valves open, venting any pressurized system, leaving all batteries in a permanent discharge state, and removing any remaining source of stored energy, or through other equivalent procedures.

(2) The second notification is required no less than 5 months prior to initiating space station transmissions and must specify the information required by Appendix S4 and Resolution No. 642 of the Radio Regulations.

* * * * *

[FR Doc. 02-10995 Filed 5-2-02; 8:45 am]

BILLING CODE 6712-01-P